DEPARTMENT OF HOMELAND SECURITY

Coast Guard

33 CFR Part 165

[Docket Number USCG-2025-0270]

RIN 1625-AA00

Safety Zone; Milwaukee Air and Water Show, Milwaukee, WI

AGENCY: Coast Guard, DHS.

ACTION: Final rule.

SUMMARY: The Coast Guard is amending a published safety zone for certain waters of Lake Michigan encompassing the Milwaukee Air and Water Show to include an additional day. This action is necessary to provide for the safety of life on these navigable waters in the vicinity of McKinley Park and Bradford Beach, during this recurring event on the third weekend in July. This rulemaking prohibits persons and vessels from being in the safety zone unless authorized by the Captain of the Port Sector Lake Michigan or a designated representative.

DATES: This rule is effective July 28, 2025.

ADDRESSES: To view documents mentioned in this preamble as being available in the docket, go to https://www.regulations.gov, type USCG-2025-0270 in the search box and click “Search.” Next, in the Document Type column, select “Supporting & Related Material.”

FOR FURTHER INFORMATION CONTACT: If you have questions about this rule, call or email LCDR Jessica Anderson, Sector Lake Michigan Waterways Management Division, U.S. Coast Guard; telephone 414-747-7182, email Jessica.P.Anderson@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Milwaukee Air and Water Show is a long-standing event that has occurred for 14 years. During that time, there have been numerous requests to establish a safety zone for four days in duration, rather than the three days currently enforced. The Captain of the Port (COTP) Sector Lake Michigan determined that, due to the repetitive requests, it was pertinent to revise the current safety zone in 33 CFR 165.929, table 4 to § 165.929, line No. 29 for the Milwaukee Air and Water Show to add a fourth day for the event.

In response, on April, 8, 2025, the Coast Guard published a notice of proposed rulemaking (NPRM) titled Safety Zone; Milwaukee Air and Water Show, Milwaukee, WI.¹ There we stated why we issued the NPRM and invited comments on our proposed regulatory action related to this fireworks display. During the comment period that ended May 8, 2025, we received 4 comments, all in support of the additional day for enhanced safety.

¹ 90 FR 15127.

III. Legal Authority and Need for Rule

The Coast Guard is issuing this rule under the authority in 46 U.S.C. 70034. The COTP Sector Lake Michigan determined that potential hazards were associated with the previously established safety zone in 33 CFR 165.929, table 4 to § 165.929, line No. 29 for the Milwaukee Air and Water Show that could be addressed through an additional day. The purpose of this rulemaking is to ensure the safety of vessels and the navigable waters within an area approximately 5,000-yards by 1,500-yards before, during, and after the scheduled event, which required expanding the enforcement period to include four days.

IV. Discussion of Comments, Changes, and the Rule

As noted above, we received 4 comments on our NPRM published April 8, 2025. All comments were in support of the proposed amendment. There are no changes in the regulatory text of this rule from the proposed rule in the NPRM.

This rule amended an established safety zone in 33 CFR 165.929, table 4 to § 165.929, line No. 29 for the Milwaukee Air and Water Show by adding a fourth day to the event. The Milwaukee Air and Water Show event is a recurring event held on the third weekend in July from 8:00 a.m. to 5 p.m. The safety zone covers all navigable waters of Lake Michigan in the vicinity of McKinley Park and Bradford Beach located within an area that is approximately 5,000 yards by 1,500 yards. The expanded duration of the zone ensures the safety of vessels and these navigable waters before, during, and after the scheduled Milwaukee Air and Water Show. No vessel or person is be permitted to enter the safety zone without obtaining permission from the COTP or a designated representative.

V. Regulatory Analyses

We developed this rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility. Executive Order 14192 (Unleashing Prosperity Through Deregulation) directs agencies to significantly reduce the private expenditures required to comply with Federal regulations and provides that “any new incremental costs associated with new regulations shall, to the extent permitted by law, be offset by the elimination of existing costs associated with at least 10 prior regulations.”

The Office of Management and Budget (OMB) has not designated this rule a “significant regulatory action,” under section 3(f) of Executive Order 12866. Accordingly, OMB has not reviewed it.

This rule is not an Executive Order 14192 regulatory action because this rule is not significant under Executive Order 12866. See OMB Memorandum M-25-20, “Guidance Implementing Section 3 of Executive Order 14192, titled ‘Unleashing Prosperity Through Deregulation’ ” (Mar. 26, 2025).

This regulatory action determination is based on the size, location, duration and time of day of the regulated area. This regulatory action determination is based on the previous rulemaking and the additional day not substantially altering the previous regulation. Additionally, prior events have included temporary final rules to encompass the four-day timeframe.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

This regulatory action determination is based on the size, location, and duration of the safety zone. The regulation will be in effect only during the event listed in this regulation for which the COTP has determined pose risks to the safety of life and property for the maritime public and event participants. The size, location, and duration of the regulation will be limited to the extent necessary to minimize these risks. Moreover, the COTP will make advance notice of the enforcement of the regulation through the Local Notice to Mariners and/or Broadcast Notice to Mariners. This regulation also provides a means for anyone needing to transit through or within the safety zone to seek permission from the COTP.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves expanding a long-standing safety zone from three days to four days. It is categorically excluded from further review under paragraph L60(a) of Appendix A, Table 1 of DHS Instruction Manual 023-01-001-01, Rev. 1. A Record of Environmental Consideration supporting this determination is available in the docket. For instructions on locating the docket, see the ADDRESSES section of this preamble.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. In § 165.929, amend table 4, by revising item 29 to read as follows:

§ 165.929 Safety Zones; annual events requiring safety zones in the Captain of the Port Lake Michigan Zone.

* * * * *

Table 4 to § 165.929—Safety Zones in the State of Wisconsin
Event | Location ¹ | Enforcement date ²
* * * * * * *
(29) Milwaukee Air And Water Showe | Milwaukee, WI. All waters of Lake Michigan in the vicinity of McKinley Park and Bradford Beach located within an area that is approximately 5,000 yards by 1,500 yards. The area will be bounded by the points beginning at 43°02.455′ N, 087°52.880′ W; then southeast to 43°02.230′ N, 087°52.061′ W; then northeast to 43°04.451′ N, 087°50.503′ W; then northwest to 43°04.738′ N, 087°51.445′ W; then southwest to 43°02.848′ N, 087°52.772′ W; then returning to the point of origin | 4 days—Third weekend in July; 8 a.m. to 5 p.m.
* * * * * * *
¹ All coordinates listed in Table 4 of this section reference Datum NAD 1983.
² As noted in paragraph (a)(3) of this section, the enforcement dates and times for each of the listed safety zones are subject to change.

Dated: June 10, 2025.
Joseph B. Parker,
Captain, U.S. Coast Guard, Captain of the Port, Sector Lake Michigan.

[FR Doc. 2025-11839 Filed 6-25-25; 8:45 am]

BILLING CODE 9110-04-P